DEPARTMENT OF JUSTICE

[OMB Number 1121-0065]

Agency Information Collection Activities; Proposed eCollection eComments Requested; Extension of a Currently Approved Collection: National Corrections Reporting Program

AGENCY: Bureau of Justice Statistics, Department of Justice.

ACTION: 30-Day notice.

SUMMARY: The Bureau of Justice Statistics (BJS), Department of Justice (DOJ), will be submitting the following information collection request to the Office of Management and Budget (OMB) for review and approval in accordance with the Paperwork Reduction Act of 1995.

DATES: Comments are encouraged and will be accepted for 30 days until October 16, 2024.

FOR FURTHER INFORMATION CONTACT: If you have comments especially on the estimated public burden or associated response time, suggestions, or need a copy of the proposed information collection instrument with instructions or additional information, please contact: Derek Mueller, Ph.D., Statistician, Bureau of Justice Statistics, 999 North Capitol St. NE, Washington, DC 20002. (email: Derek.Mueller@usdoj.gov; telephone: 202-353-5216).

SUPPLEMENTARY INFORMATION: The proposed information collection was previously published in the Federal Register, volume 89 page 55280, on July 3, 2024, allowing a 60-day comment period. No comments were received.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0065]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a Currently Approved Collection.

2. Title of the Form/Collection: National Corrections Reporting Program. The collection includes the following parts: Prisoner Admission Report, Prisoner Release Report, Prisoners in Custody at Year-end Report, Post-Custody Community Supervision Entry Report, Post-Custody Community Supervision Exit Report.

3. Agency form number, if any, and the applicable component of the Department of Justice sponsoring the collection: Form number(s): NCRP-1A, NCRP-1B, NCRP-1D, NCRP-1E, NCRP-1F. The applicable component within the Department of Justice is the Bureau of Justice Statistics (Prisons Statistics Unit), in the Office of Justice Programs.

4. Affected public who will be asked or required to respond, as well as a brief abstract: Primary: 50 state departments of corrections (DOCs) and 7 parole boards (in six states and the District of Columbia).

5. Obligation to Respond: Voluntary.

6. Total Estimated Number of Respondents: BJS anticipates 57 respondents to NCRP by 2027: 50 state DOC respondents and seven separate parole boards (in six states and the District of Columbia). Burden hours for the three collection years (2025-2027) differ based on whether a state has previously submitted NCRP prison and PCCS data in recent years. In the last four years, 47 DOCs have submitted NCRP prison data, but currently, only 35 respondents have submitted PCCS data.

7. Estimated Time per Respondent: BJS anticipates 57 respondents to NCRP by 2027: 50 state DOC respondents and seven separate parole boards (in six states and the District of Columbia). Burden hours for the three collection years (2025-2027) differ based on whether a state has previously submitted NCRP prison and PCCS data in recent years. In the last four years, 47 DOCs have submitted NCRP prison data, but currently, only 35 respondents have submitted PCCS data.

Burden Hours for Prison Records (NCRP-1A, NCRP-1B, NCRP-1D)

All 50 DOCs have submitted NCRP prison data in the past, so the average time needed to continue providing prison data is expected to be 7 hours per respondent for both prisoner admissions and releases (NCRP-1A and NCRP-1B) and 7 hours for data on persons in prison at year-end (NCRP-1D). For 2025-2027, the total burden estimate is 14 hours per DOC for a total of 700 hours annually for the 50 DOCs (14 hours*50 = 700 hours). This is the same estimate as given for the 2024 collection since BJS is not requesting changes to the collection.

Burden Hours for PCCS Records (NCRP-1E, NCRP-1F)

In 2023, there were 35 jurisdictions submitting 2022 PCCS data (31 DOCs and 4 parole supervising agencies), and BJS estimates that extraction and submission of both the PCCS entries and exits takes an average of 8 hours per jurisdiction. For 2025-2027, BJS hopes to recruit an additional five jurisdictions to submit NCRP PCCS data. For those 35 supervising agencies currently responding, provision of the PCCS data in 2022-2024 will total 280 hours (8 hours*35 = 280 hours) annually. The total estimate for submission of PCCS for new jurisdictions in 2022-2024 is 120 hours (24 hours*5 = 120 hours). For new agencies, BJS assumes the initial submission will take about three times longer than established reporters to account for programming, questions, and submission. The total amount of time for all PCCS submissions annually is 400 hours.

Burden Hours for Data Review/Follow-Up Consultations

Follow-up consultations with respondents are usually necessary while processing the data to obtain further information regarding the definition, completeness and accuracy of their report. The duration of these follow-up consultations will vary based on the number of record types submitted, so BJS has estimated an average of 3 hours per jurisdiction to cover all of the records (prison and/or PCCS) submitted. In 2025, BJS anticipates that one of the two parole boards not currently submitting PCCS data will begin to submit, so the number of jurisdictions requiring follow-up consultations is 51 (50 DOCs submitting at least the prison data, and one parole board submitting only PCCS data). This yields a total of 153 hours of follow-up consultation after submission (3 hours * 51 = 153 hours). This total estimate of 153 hours for data review/follow-up consultations remains the same for 2026 and 2027.

8. Frequency: Annually.

9. Total Estimated Annual Time Burden: BJS anticipates that the total burden for provision and data follow-up of all NCRP data across the participating jurisdictions in 2025-2027 to be 1,235 hours (700 hours for prison records, 400 hours for PCCS records, and 153 hours for follow-up consultation).

10. Total Estimated Annual Other Costs Burden: $48,696.

Total Burden Hours
Activity | Number of respondents | Frequency | Total annual responses | Time per survey (hrs) | Time for follow-up (hrs) | Total annual burden (hours)
NCRP Prison (NCRP-1A, 1B, 1D) | 50 | 1 | 50 | 14 | 1.5 | 15.5
NCRP PCCS (NCRP 1E, 1F) | 35 | 1 | 35 | 8 | 1.5 | 9.5
NCRP PCCS New | 5 | 1 | 5 | 24 | 1.5 | 25.5
Unduplicated Totals |  |  |  |  |  | 1,235

If additional information is required, contact: Darwin Arceo, Department Clearance Officer, Policy and Planning Staff, Justice Management Division, United States Department of Justice, Two Constitution Square, 145 N Street NE 4W-218, Washington, DC 20530.

Dated: September 11, 2024.
Darwin Arceo,
Department Clearance Officer for PRA, U.S. Department of Justice.

[FR Doc. 2024-20959 Filed 9-13-24; 8:45 am]

BILLING CODE 4410-18-P